ENVIRONMENTAL PROTECTION AGENCY

40 CFR Parts 52 and 81

[NH-45-7172b; A-1-FRL-6906-3]

Approval and Promulgation of Air Quality Implementation Plans and Designations of Areas for Air Quality Planning Purposes; State of New Hampshire; Revision to the Carbon Monoxide State Implementation Plan, City of Nashua; Carbon Monoxide Redesignation Request, Maintenance Plan, Transportation Conformity Budget, and Emissions Inventory for the City of Nashua; Carbon Monoxide Redesignation Request, Maintenance Plan, Transportation Conformity Budget, and Emissions Inventory for the City of Manchester

AGENCY: Environmental Protection Agency (EPA).

ACTION: Proposed rule.

SUMMARY: The Environmental Protection Agency (EPA) is proposing to redesignate the Nashua, New Hampshire nonattainment area to attainment for the carbon monoxide (CO) air quality standard and is proposing to approve a Maintenance Plan that will insure that the Nashua area remains in attainment. The EPA is also proposing to redesignate the Manchester, New Hampshire nonattainment area to attainment for the CO air quality standard and is proposing to approve a maintenance plan that will insure that the Manchester area remains in attainment. Under the Clean Air Act, as amended in 1990 (the CAA), designations can be revised if sufficient data are available to warrant such revisions and the request to redesignate shows that all of the requirements of section 107(d)(E)(3) of the CAA have been met. EPA is proposing to approve the New Hampshire maintenance plans and other redesignation submittals because they meet the maintenance plan and redesignation requirements, and will ensure that the two areas remain in attainment. The approved maintenance plans will become a federally enforceable part of the New Hampshire State Implementation Plan (SIP). In this action, EPA is also proposing to approve the New Hampshire 1990 baseline emission inventories for both of these areas, transportation conformity budgets for both areas and a revision to the inspection and maintenance (I/M) SIP approved for the Nashua area.

In the Final Rules Section of this Federal Register, EPA is approving the State's SIP submittal as a direct final rule without a prior proposal because the Agency views this as a noncontroversial submittal and anticipates no adverse comments. A detailed rationale for the approval is set forth in the direct final rule. If no relevant adverse comments are received in response to this rule, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Written comments must be received on or before December 29, 2000.

ADDRESSES: Comments may be mailed to David Conroy, Manager, Air Quality Planning Unit, Office of Ecosystem Protection (mail code CAQ), U.S. Environmental Protection Agency, New England office, One Congress Street, Suite 1100, Boston, MA 02114-2023. Copies of the State submittal and EPA's technical support document are available for public inspection during normal business hours, by appointment at the Office of Ecosystem Protection, U.S. Environmental Protection Agency, New England office, One Congress Street, 11th floor, Boston, MA and Air Resources Division, Department of Environmental Services, 6 Hazen Drive, P.O. Box 95, Concord, NH 03302-0095.

FOR FURTHER INFORMATION CONTACT: Jeffrey S. Butensky, Environmental Planner, Air Quality Planning Unit of the Office of Ecosystem Protection (mail code CAQ), U.S. Environmental Protection Agency, New England office, One Congress Street, Boston, MA 02114-2023, (617) 918-1665 or at butensky.jeff@epa.gov.

SUPPLEMENTARY INFORMATION: For additional information, see the direct final rule which is located in the Rules Section of this Federal Register.

Dated: November 14, 2000.
Mindy S. Lubber,
Regional Administrator, EPA New England.

[FR Doc. 00-30276 Filed 11-28-00; 8:45 am]

BILLING CODE 6560-50-P